DEPARTMENT OF ENERGY

Federal Energy Regulatory Commission

[Docket Nos. CP25-514-001, CP25-517-001]

Tennessee Gas Pipeline Company, L.L.C.; Southern Natural Gas Company, L.L.C.; Elba Express Company, L.L.C.; Notice of Petitions for Waiver and Establishing Intervention Deadline

Take notice that on June 30, 2025, pursuant to Rule 207(a)(5) of the Federal Energy Regulatory Commission's (Commission) Rules of Practice and Procedure,¹ Southern Natural Gas Company, L.L.C. (Southern) and Elba Express Company, L.L.C., and Tennessee Gas Pipeline Company, L.L.C., filed petitions to waive section 157.23 of the Commission's regulations ² as it applies to the South System Expansion 4 Project (SSE4 Project) and the Mississippi Crossing Project (MSX Project), respectively. The SSE4 project would be located in Mississippi, Alabama, and Georgia and consist of 14 new natural gas pipeline loops totaling approximately 291 miles, primarily along Southern's existing South Main Line; additional compression at 14 existing compressor stations; three new meter stations; modifications to nine existing meter stations; and other appurtenant facilities. The MSX Project would be located in Mississippi and Alabama and consist of approximately 208 miles of new pipeline; three new compressor stations and modifications at one existing compressor station; four new meter stations; three overpressure protection facilities; and other appurtenant facilities.

¹ 18 CFR 385.207(a)(5) (2024).

² 18 CFR 157.23 (2024).

Any person desiring to intervene or to protest these filings must do so in accordance with Rules 211 and 214 of the Commission's Rules of Practice and Procedure.³ Any person may comment on the petitions. Protests and comments will be considered by the Commission in determining the appropriate action to be taken, but will not serve to make protestants or commenters parties to the proceeding. Protests must comply with the requirements specified in section 385.2001 ⁴ of the Commission's regulations. A protest may also serve as a motion to intervene so long as the protestor states it also seeks to be an intervenor. Any person wishing to become a party must file a notice of intervention or motion to intervene, as appropriate. Such notices, motions, or protests must be filed on or before the comment date. Anyone filing a motion to intervene or protest must serve a copy of that document on the Petitioners.

³ 18 CFR 385.211, 385.214 (2024). Intervention in the proceeding where the Commission will consider the applications for certificates of public convenience and necessity for the SSE4 and MSX Projects (Docket Nos. CP25-514-000 and CP25-517-000) does not make the person or entity a party to this petition for waiver proceeding, and vice versa. Persons or entities wishing to intervene in the proceeding where the Commission will consider the applications for certificates of public convenience and necessity must do so in that proceeding. Comments, protests, and interventions in that proceeding are due August 5, 2025.

⁴ 18 CFR 385.2001 (2024).

The Commission encourages electronic submission of comments, protests, and interventions in lieu of paper using the “eFiling” link at http://www.ferc.gov. Persons unable to file electronically should submit an original copy of the pleading by U.S. mail to Debbie-Anne A. Reese, Secretary, Federal Energy Regulatory Commission, 888 First Street NE, Room 1A, Washington, DC 20426. Submissions by any other courier in docketed proceedings should be delivered to, Debbie-Anne A. Reese, Secretary, Federal Energy Regulatory Commission, 12225 Wilkins Avenue, Rockville, Maryland 20852.

In addition to publishing the full text of this document in the Federal Register, the Commission provides all interested persons an opportunity to view and/or print the contents of this document via the internet through the Commission's Home Page (http://www.ferc.gov). From the Commission's Home Page on the internet, this information is available on eLibrary. The full text of this document is available on eLibrary in PDF and Microsoft Word format for viewing, printing, and/or downloading. To access this document in eLibrary, type the docket number excluding the last three digits of this document in the docket number field.

User assistance is available for eLibrary and the Commission's website during normal business hours from FERC Online Support at (202) 502-6652 (toll free at 1-866-208-3676) or email at ferconlinesupport@ferc.gov, or the Public Reference Room at (202) 502-8371, TTY (202) 502-8659. Email the Public Reference Room at public.referenceroom@ferc.gov.

The Commission's Office of Public Participation (OPP) supports meaningful public engagement and participation in Commission proceedings. OPP can help members of the public, including landowners, community organizations, Tribal members and others, access publicly available information and navigate Commission processes. For public inquiries and assistance with making filings such as interventions, comments, or requests for rehearing, the public is encouraged to contact OPP at (202) 502-6595 or OPP@ferc.gov.

Comment, Protest, and Intervention Deadline: 5:00 p.m. Eastern time on July 31, 2025.

Dated: July 24, 2025.
Carlos D. Clay,
Deputy Secretary.

[FR Doc. 2025-14302 Filed 7-28-25; 8:45 am]

BILLING CODE 6717-01-P